COMMISSION OF FINE ARTS

Notice of Meeting

Per 45 CFR 2102.3, the next meeting of the U.S. Commission of Fine Arts is scheduled for February 20, 2025, at 9 a.m. and will be held via online videoconference. Items of discussion may include buildings, infrastructure, parks, memorials, and public art.

Draft agendas, the link to register for the online public meeting, and additional information regarding the Commission are available on our website: www.cfa.gov. Inquiries regarding the agenda, as well as any public testimony, should be addressed to Thomas Luebke, Secretary, U.S. Commission of Fine Arts, at the above address; by emailing cfastaff@cfa.gov; or by calling 202-504-2200. Individuals requiring sign language interpretation for the hearing impaired should contact the Secretary at least 10 days before the meeting date.

Dated February 6, 2025, in Washington, DC.
Zakiya N. Walters,
Administrative Officer.

[FR Doc. 2025-02574 Filed 2-12-25; 8:45 am]

BILLING CODE 6330-01-P